DEPARTMENT OF TRANSPORTATION

Federal Aviation Administration

14 CFR Part 187

[Docket No. FAA-00-7018; Admt. No. 187-11]

RIN 2120-AG17

Fees for FAA Services for Certain Flights; Extension of Comment Period

AGENCY: Federal Aviation Administration (FAA), DOT.

ACTION: Interim final rule; Extension of comment period.

SUMMARY: On June 6, 2000, the FAA published an Interim Final Rule (IFR) establishing fees for FAA air traffic and related services for certain aircraft that transit U.S.-controlled airspace but neither take off from, nor land in, the United States and invited comments for a 120-day period. The IFR went into effect on August 1, 2000, and the comment period was originally scheduled to close on October 4, 2000. However, on September 29, 2000, the FAA extended the comment period to October 27, 2000, to ensure that affected entities, mostly foreign, have sufficient time to comment on the contents of the docket. Due to recently passed legislation and the availability of other relevant accounting and economic information, the FAA is extending the comment period another 60 days, to December 26, 2000.

DATES: Comments must be received on or before December 26, 2000.

ADDRESSES: Address your comments to the Docket Management System (DMS), U.S. Department of Transportation, Room Plaza Level 401, 400 Seventh Street, SW., Washington, DC 20590-0001. You must identify the docket number “FAA-00-7018” at the beginning of your comments, and you should submit two copies of your comments.

You may also submit comments through the Internet to http://dms.dot.gov. You may review the public docket containing comments in this rulemaking in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Randall Fiertz, Office of Performance Management, (APF-2), Federal Aviation Administration, 800 Independence Avenue, SW., Washington, DC 20591; telephone (202) 267-7140; fax (202) 493-4191.

SUPPLEMENTARY INFORMATION:

Comments Invited

Interested persons are invited to participate in this rulemaking by submitting such written data, views, or arguments, as they may desire. Comments relating to the environmental, energy, federalism, or economic impact that might result from this rulemaking are also invited. Substantive comments should be accompanied by cost estimates. Comments must identify the regulatory docket or notice number and be submitted in duplicate to the Rules Docket address specified above.

All comments received, as well as a report summarizing each substantive public contact with FAA personnel on this rulemaking, will be filed in the docket. The docket is available for public inspection before and after the comment closing date.

The Administrator will consider all comments received on or before the closing date. Late-filed comments will be considered to the extent practicable. The Interim Final Rule, as well as the Final rule, may be changed in light of the comments received.

Commenters wishing the FAA to acknowledge receipt of their comments must include a pre-addressed, stamped postcard on which the following statement is made: “Comments to Docket No. FAA-00-7018.” The postcard will be date-stamped and mailed to the commenter.

Availability of Interim Final Rule

You can get an electronic copy using the Internet by taking the following steps:

(1) Go to the search function of the Department of Transportation's electronic Docket Management System (DMS) web page (http://dms.dot.gov/search).

(2) On the search page type in the last four digits of the Docket number shown at the beginning of this notice. Click on “search.”

(3) On the next page, which contains the Docket summary information for the Docket you selected, click on the document number for the item you wish to view.

You can also get an electronic copy using the Internet through FAA's web page at http://www.faa.gov/avr/arm/nprm/nprm.htm or the Federal Register's web page at http://www.access.gpo.gov/su_docs/aces/aces140.html.

You can also get a copy by submitting a request to the Federal Aviation Administration, Office of Rulemaking, ARM-1, 800 Independence Avenue, SW., Washington, DC 20591, or by calling (202) 267-9680. Make sure to identify the docket number of this rulemaking.

Extension of Comment Period

On June 6, 2000, the FAA published Amendment No. 187-11, Fees for FAA Services for Certain Flights (65 FR 36002). The FAA requested that comments to that document be submitted on or before October 4, 2000. On September 29, 2000 the FAA extended the comment period to October 27, 2000 (65 FR 59713). This was done in response to the significance and international implications of this IFR, as expressed in the comments, and because the first billing under the rule had recently occurred.

On October 18, 2000, the Congress passed legislation (S. 2412) that directly affects the issues in this case and which may cause those members of the public who have previously provided comments in this rulemaking to provide additional comments. This legislation has been sent to the President for signature.

Also, in response to the comments, the FAA has had prepared, and will soon make available in the docket, additional accounting and economic information relevant to the development of the Overflight fees.

The FAA has determined that an opportunity to comment on the recently passed legislation and the additional information is appropriate for development of the Final Rule as required by 49 U.S.C. 45301. Therefore, the FAA is extending the comment period an additional 60 days until December 26, 2000 to allow for an opportunity for the public to comment further on this rulemaking.

The FAA determines that extending the comment period is in the public interest and that good cause exists for taking this action. Accordingly, the comment period for Amendment No. 187-11 is extended until December 26, 2000.

Issued in Washington, DC, October 23, 2000.
Donna McLean,
Assistant Administrator for Financial Services.

[FR Doc. 00-27664 Filed 10-26-00; 8:45 am]

BILLING CODE 4910-13-M